DEPARTMENT OF COMMERCE

[I.D. 051004H]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Electronic Chart Systems and Electronic Chart Display and Information Systems User Survey.

Form Number(s): None.

OMB Approval Number: None.

Type of Request: Emergency submission.

Burden Hours: 667.

Number of Respondents: 1,000.

Average Hours Per Response: 40 minutes.

Needs and Uses: The purpose of this information collection is to gather data on: (1) the current state of Electronic Chart Systems (ECS)/ Electronic Chart Display and Information Systems (ECDIS) development and usage by mariners; (2) the technical problems, personal preferences, near misses, and reasons for mariners' preferences on equipment setup; and (3) the skill sets and knowledge that mariners feel are important for the safe and efficient use of ECS and ECDIS. The results of the proposed information collection would help identify human errors associated with ECS and ECDIS and aid in the development of training and educational aids.

Affected Public: Individuals or households.

Frequency: One time.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent by May 24, 2004 to David Rostker, OMB Desk Officer, FAX number 202-395-7285, or David_Rostker@omb.eop.gov.

Dated: May 10, 2004.
Gwellnar Banks,
Management Analyst, Office of the Chief Information Officer.

[FR Doc. 04-10986 Filed 5-11-04; 2:50 pm]

BILLING CODE 3510-JE-S